FEDERAL RESERVE SYSTEM

Public Meeting: Application by J. P. Morgan Chase & Co., New York, New York, to Merge with Bank One Corporation, Chicago, Illinois

AGENCY: Federal Reserve System

ACTION: Notice of Public Meetings

SUMMARY: Two public meetings will be held regarding the application submitted by J. P. Morgan Chase & Co., New York, New York, to merge with Bank One Corporation, Chicago, Illinois, and acquire its banking and nonbanking subsidiaries pursuant to the Bank Holding Company Act (“BHC Act”) and related statutes. The purpose of the public meetings is to collect information relating to factors the Board is required to consider under the BHC Act.

DATES AND TIMES: The New York meeting will be held on Thursday, April 15, 2004, at 9:00 a.m. Eastern Time. The Chicago meeting will be held on Friday, April 23, 2004, at 8:30 a.m. Central Time.

ADDRESSES: The public meeting in New York will be held at the Federal Reserve Bank of New York, 33 Liberty Street, New York, New York, and will begin at 9:00 a.m. Eastern Time. The public meeting in Chicago will be held at the Federal Reserve Bank of Chicago, 230 South LaSalle Street, Chicago, Illinois, and will begin at 8:30 a.m. Central Time.

FOR FURTHER INFORMATION CONTACT: For the New York meeting, contact John G. Ricketti, Vice President, Federal Reserve Bank of New York, 33 Liberty Street, New York, New York 10045 (facsimile: 212/720-2845). For the Chicago meeting, contact Alicia Williams, Vice President, Federal Reserve Bank of Chicago, 230 South LaSalle Street, Chicago, Illinois 60604 (facsimile: 312/913-2626).

SUPPLEMENTARY INFORMATION: On February 9, 2004, J. P. Morgan Chase & Co. (“J. P. Morgan”) requested the Board's approval under the BHC Act (12 U.S.C. 1841 et seq.) and related statutes to merge with Bank One. The Board hereby orders that public meetings on the J. P. Morgan/Bank One proposal be held in New York, New York, and Chicago, Illinois.

Purpose and Procedures

The purpose of the public meetings is to collect information relating to factors the Board is required to consider under the BHC Act. These factors are (1) the effects of the proposal on the financial and managerial resources and future prospects of the companies and banks involved in the proposal, (2) competition in the relevant markets, and (3) the convenience and needs of the communities to be served. Convenience and needs considerations include a review of the records of performance of J.P. Morgan and Bank One under the Community Reinvestment Act, which requires the Board to take into account in its review of a bank acquisition or merger proposal each institution's record of meeting the credit needs of its entire community, including low-and moderate-income neighborhoods, consistent with the safe and sound operation of the institution. 12 U.S.C. 2903.

Procedures for Hearing

Testimony at the public meeting will be presented to a panel consisting of a Presiding Officer and other panel members appointed by the Presiding Officer. In conducting the public meeting, the Presiding Officer will have the authority and discretion to ensure that the meeting proceeds in a fair and orderly manner. In contrast to a formal administrative hearing, the rules for taking evidence in an administrative proceeding will not apply to this public meeting. Panel members may question witnesses, but no cross-examination of witnesses will be permitted. The public meeting will be transcribed and information regarding procedures for obtaining a copy of the transcript will be announced at the public meeting.

On the basis of the requests received, the Presiding Officer will prepare a schedule for persons wishing to testify and establish the order of presentation. To ensure an opportunity for all interested commenters to present their views, the Presiding Officer may limit the time for presentations. At the discretion of the Presiding Officer, persons not listed on the schedule may be permitted to speak at the public meeting if time permits at the conclusion of the schedule of witnesses. Copies of testimony may, but need not, be filed with the Presiding Officer before a person's presentation.

Request to Testify

All persons wishing to testify at the meeting to be held in New York must submit a written request to John G. Ricketti, Vice President, Federal Reserve Bank of New York, 33 Liberty Street, New York, New York 10045 (facsimile: 212/720-2845) not later than close of business on Monday, April 5, 2004. All persons wishing to testify at the meeting to be held in Chicago, must submit a written request to Alicia Williams, Vice President, Federal Reserve Bank of Chicago, 230 South LaSalle Street, Chicago, Illinois 60604 (facsimile: 312/913-2626) not later than close of business on Monday, April 5, 2004. The request must include the following information: (i) identification of which meeting the participant wishes to attend; (ii) a brief statement of the nature of the expected testimony (including whether the testimony will support or oppose the proposed transaction, or provide other comment on the proposal) and the estimated time required for the presentation; (iii) address and telephone number (and facsimile number and e-mail address, if available) of the person testifying; and (iv) identification of any special needs, such as from persons desiring translation services, persons with a physical disability who may need assistance, or persons requiring visual aids for their presentation. To the extent feasible, translators will be provided to persons wishing to present their views in a language other than English if this information is included in the request to testify. Persons interested only in attending the meeting but not testifying need not submit a written request to attend.

By order of the Board of Governors acting through the General Counsel pursuant to delegated authority, effective March 31, 2004.
Jennifer J. Johnson,
Secretary of the Board

[FR Doc. 04-7687 Filed 4-2-04; 8:45 am]

BILLING CODE 6210-01-S